DEPARTMENT OF HEALTH AND HUMAN SERVICES

Health Resources and Services Administration

Agency Information Collection Activities: Proposed Collection: Public Comment Request; Information Collection Request Title: Health Workforce Connector, OMB No. 0906-0031—Extension

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR must be received no later than October 13, 2020.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Health Workforce Connector, OMB No. 0906-0031—Extension.

Abstract: More than just a job search portal, the goal of the Health Workforce Connector is to help connect skilled professionals to communities in need by allowing approved Site Points of Contact (POCs), including National Health Service Corps (NHSC) and Nurse Corps, to post available opportunities and update site profiles. The Health Workforce Connector provides a central platform to connect participants, including those in both the NHSC and Nurse Corps programs, and facilities that are approved for performance of their NHSC or Nurse Corps service obligation. The Health Workforce Connector has become a resource that engages any health care professional or student interested in providing primary care services in underserved communities and with facilities in need of health care providers. The Health Workforce Connector also allows users to create a profile, search for NHSC and Nurse Corps sites, find job and training opportunities, search for other clinicians who are similarly interested in working with underserved populations, and be searchable by Site POCs. Individuals can use the Health Workforce Connector's search capability with Google Maps.

Need and Proposed Use of the Information: Information will be collected from users in the following two ways:

(1) Account Creation: Creating an account is optional, but to create an account the user will be required to enter their first name, last name, and email address. Those are the only mandatory fields in the profile account creation process and will be used to send an automated email allowing the user to validate their login credentials. This information will also be used to validate any users who already exist within the Bureau of Health Workforce Management Information Systems Solution (BMISS) database and allow an initial import of existing data at the request of the user.

(2) Profile Completion: Users may fill out a profile, but this function will be completely optional and will include fields such as location, discipline, specialty, and languages spoken. The information collected, if `published' by the user, will allow internal BMISS Site POCs to search for anyone who may be a potential candidate for job opportunities at the site. Users also have the ability to make their profiles searchable by other end users through a security and privacy setting and can make their profiles private at any time. All information collected will be stored within existing secure BMISS databases and will be used internally for report generation on an as-needed basis.

Likely Respondents: Potential users will include individuals searching for a health care job opportunity or an NHSC or Nurse Corps health care facility, and health care facilities searching for potential candidates to fill open health care job opportunities at their sites.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Account Creation | 15,600 | 1 | 15,600 | .08 | 1,248
Complete Profile | 9,400 | 1 | 9,400 | 1 | 9,400
Total | ¹ 15,600 |  | 15,600 |  | 10,648
¹ The 9,400 respondents who complete their profiles are a subset of the 15,600 respondents who create accounts.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2020-17635 Filed 8-11-20; 8:45 am]

BILLING CODE 4165-15-P